DEPARTMENT OF COMMERCE

International Trade Administration

[C-122-846, C-122-848]

Certain Durum Wheat and Hard Red Spring Wheat: Extension of Time Limit for Preliminary Determinations in Countervailing Duty Investigations

AGENCY: Import Administration, International Trade Administration, Department of Commerce.

ACTION: Notice of extension of time limit for preliminary determinations in countervailing duty investigations.

SUMMARY: The Department of Commerce is extending the time limit of the preliminary determinations in the countervailing duty (“CVD”) investigations of certain durum wheat and hard red spring wheat from December 27, 2002 until no later than March 3, 2003. This extension is made pursuant to section 703(c)(1)(B) of the Tariff Act of 1930, as amended (“The Act”).

EFFECTIVE DATE: December 9, 2002.

FOR FURTHER INFORMATION CONTACT: Craig Matney, Stephen Cho, or Audrey Twyman, at (202) 482-1778, (202) 482-3798, (202) 482-3534, respectively, Import Administration, U.S. Department of Commerce, 14th Street and Constitution Avenue, NW., Washington, DC 20230.

SUPPLEMENTARY INFORMATION:

Extension of Due Date for Preliminary Determinations

On October 23, 2002, the Department of Commerce (“the Department”) initiated the CVD investigations of certain durum wheat and hard red spring wheat from Canada. See Notice of Initiation of Countervailing Duty Investigations: Certain Durum Wheat and Hard Red Spring Wheat, 67 FR 65951 (October 29, 2002). Currently, the preliminary determinations are due no later than December 27, 2002. However, pursuant to section 703(c)(1)(B) of the Act, we have determined that these investigations are “extraordinarily complicated” and are, therefore, extending the due date for the preliminary determinations by 65 days to no later than March 3, 2003.

Under section 703(c)(1)(B), the Department can extend the period for reaching a preliminary determination until not later than the 130th day after the date on which the administering authority initiates an investigation if:

(B) the administering authority concludes that the parties concerned are cooperating and determines that

(i) the case is extraordinarily complicated by reason of

(I) the number and complexity of the alleged countervailable subsidy practices;

(II) the novelty of the issues presented;

(III) the need to determine the extent to which particular countervailable subsidies are used by individual manufacturers, producers, and exporters; or

(IV) the number of firms whose activities must be investigated; and

(ii) additional time is necessary to make the preliminary determination.

Regarding the first requirement, we find that in both investigations all concerned parties are cooperating. Regarding the second requirement that the investigations be extraordinarily complicated, it is the Department's position that the appropriate criterion for analysis is not the number of programs in question, but rather, the specific transactions, applied under those programs, which are numerous and appropriately categorized as “practices.” With respect to the issue of the complexity of the practice, these practices are complex in nature as reflected in the extensive analysis required to address these subsidies. Furthermore, the practices present novel issues. Finally, additional time is necessary to make the preliminary determinations.

For a number of the programs in both investigations, the Department will be required to examine complicated circumstances and documents from a number of private-sector and government parties to determine whether the Government of Canada (“GOC”) or provincial governments entrusted or directed private parties to provide subsidies to the Canadian Wheat Board (“CWB”). For example, the Department must analyze complicated systems used to determine whether the revenue cap system imposed by the GOC on the railroads for transporting grain provides a benefit to the CWB. In addition, the Department will be required to examine in detail the financial records of the CWB and the GOC to determine whether or not the CWB received a countervailable subsidy by virtue of a GOC guarantee on its lending and borrowing. Lastly, the respondents have requested an extension of time to respond to the Department's questionnaire because the subsidies alleged “focus on extraordinarily complicated transportation systems. Information pertaining to these systems is held by many different private sector parties, governments, and government agencies, with no one entity possessing full knowledge of all aspects of the system.” See November 22, 2002, submission from the GOC at page 2. The responses to the questionnaire will require complicated analysis and will be necessary for the Department to make its preliminary determinations.

Accordingly, we conclude that the concerned parties are cooperating, we deem these investigations to be extraordinarily complicated, and we determine that additional time is necessary to make the preliminary determinations. Therefore, pursuant to section 703(c)(1)(B) of the Act, we are postponing the preliminary determinations in these investigations to March 3, 2003.

This notice is published pursuant to section 703(c)(2) of the Act.

Dated: December 3, 2002.
Faryar Shirzad,
Assistant Secretary for Import Administration.

[FR Doc. 02-31033 Filed 12-6-02; 8:45 am]

BILLING CODE 3510-DS-P